DEPARTMENT OF TRANSPORTATION

Federal Aviation Administration

Notice of Intent To Request Review and Clearance From the Office of Management and Budget (OMB) of a Proposed One-Time Public Collection of Information

AGENCY: Federal Aviation Administration (FAA), DOT.

ACTION: Notice.

SUMMARY: In compliance with the Paperwork Reduction Act of 1995 (44 U.S.C. 3510 et seq.), this notice announces that the FAA is submitting a proposed information collection request (ICR) to the Office of Management and Budget and requesting that they grant an emergency clearance by October 23, 2002. The information collection abstracted below is a one-time, voluntary questionnaire going out to only 200 potential respondents.

FOR FURTHER INFORMATION CONTACT: Judith Street on (202) 267-9895.

SUPPLEMENTARY INFORMATION:

Federal Aviation Administration (FAA)

Title: Research for Development and Distribution of Enhanced or New Cockpit Graphical Products for Terminal Operations.

Affected Public: A total of 200 individual airmen and airline dispatchers.

Abstract: The Department of Transportation (DOT), in accordance with 49 CFR part 141, delegated responsibility for aviation safety oversight to the FAA. The FAA, on October 4, 1995, established the Aviation Weather Division (now Aerospace Weather Policy and Standards Staff, ARS-20) to centralize all aviation weather policy and requirements in one organization. ARS-20 continues to serve as the focal point for all weather activities and is conducting a user needs analysis to identify how well current and future aviation weather products for use in the cockpit meet operational needs. The survey is tailored for the flight crew and dispatcher decision-makers. Feedback will aid in decisions affecting research, development and distribution of enhanced or new graphical products for terminal operations.

Estimated Annual Burden Hours: An estimated one-time 100 hours.

An agency may not conduct or sponsor, and a person is not required to respond to, a collection of information unless it displays a currently approved OMB Control Number. Once assigned by OMB, the control number will be provided to the respondents with the survey.

Issued in Washington, DC, on September 27, 2002.
Judith D. Street,
FAA Information Collection Clearance Officer, Standards and Information Division, APF-100.

[FR Doc. 02-25322 Filed 10-3-02; 8:45 am]

BILLING CODE 4910-13-M